DEPARTMENT OF COMMERCE

National Oceanic and Atmospheric Administration

50 CFR Part 680

RIN 0648-BD61

Fisheries of the Exclusive Economic Zone Off Alaska; Bering Sea and Aleutian Islands Crab Rationalization Program

AGENCY: National Marine Fisheries Service (NMFS), National Oceanic and Atmospheric Administration (NOAA), Commerce.

ACTION: Notice of availability of fishery management plan amendment; request for comments.

SUMMARY: The North Pacific Fishery Management Council (Council) submitted Amendment 45 to the Fishery Management Plan for Bering Sea/Aleutian Islands King and Tanner Crabs (Crab FMP) to NMFS for review. If approved, Amendment 45 would establish, for a limited period of time, a process to permanently remove Pacific cod catch limits, known as sideboard limits, which are applicable to certain hook-and-line catcher/processors in the Central and Western Gulf of Alaska (GOA) Regulatory Areas. This action would authorize NMFS to remove these Pacific cod sideboard limits in the Central or Western GOA if all eligible participants in the hook-and-line catcher/processor sector in a regulatory area sign and submit to NMFS an affidavit requesting that NMFS remove the sideboard limit. Eligible participants would be required to submit an affidavit to NMFS within 1 year of the date of publication of a final rule implementing Amendment 45, if it is approved by the Secretary of Commerce. Amendment 45 is necessary to provide participants in the Central and Western GOA hook-and-line catcher/processor sectors with an opportunity to cooperatively coordinate harvests of GOA Pacific cod through private arrangement to the participants' mutual benefit, which would remove the need for current regulations that impose sideboard harvest restrictions on some participants in the sectors. This action is intended to promote the goals and objectives of the Magnuson-Stevens Fishery Conservation and Management Act (Magnuson-Stevens Act), the Crab FMP, and other applicable laws.

DATES: Submit comments on or before April 3, 2015.

ADDRESSES: You may submit comments, identified by NOAA-NMFS-2013-0133, by any one of the following methods.

• Electronic Submission: Submit all electronic public comments via the Federal eRulemaking Portal. Go to www.regulations.gov/#!docketDetail;D=NOAA-NMFS-2013-0133, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of the following documents may be obtained from http://www.regulations.gov or from the NMFS Alaska Region Web site at http://alaskafisheries.noaa.gov:

• The Regulatory Impact Review/Initial Regulatory Flexibility Analysis (RIR/IRFA), and the Categorical Exclusion prepared for this action (collectively referred to as the “Analysis”);

• The Harvest Specifications Supplemental Information Report prepared for the final 2014 and 2015 harvest specifications;

• The Final Environmental Assessment/Final RIR/Initial IRFA for Amendment 83 to the Fishery Management Plan for Groundfish of the GOA (GOA FMP) Allocation of Pacific Cod Among Sectors in the Western and Central GOA; and

• The Alaska Groundfish Harvest Specifications Final Environmental Impact Statement.

FOR FURTHER INFORMATION CONTACT: Seanbob Kelly, 907-586-7228.

SUPPLEMENTARY INFORMATION: The Magnuson-Stevens Act requires that each regional fishery management council submit any fishery management plan amendment it prepares to NMFS for review and approval, disapproval, or partial approval by the Secretary of Commerce (Secretary). The Magnuson-Stevens Act also requires that NMFS, upon receiving a fishery management plan amendment, immediately publish a notice in the Federal Register announcing that the amendment is available for public review and comment. This notice announces that proposed Amendment 45 to the Crab FMP is available for public review and comment.

The king and Tanner crab fisheries in the exclusive economic zone of the Bering Sea and Aleutian Islands are managed under the Crab FMP. The Council prepared the Crab FMP under the Magnuson-Stevens Act. Regulations implementing the Crab FMP are located at 50 CFR part 680.

The Crab Rationalization (CR) Program, implemented in 2005, is a catch share program that allocates Bering Sea and Aleutian Islands (BSAI) crab resources through issuance of quota share among harvesters, processors, and coastal communities. As part of the CR Program, eligible vessel owners were allocated quota share in several valuable crab fisheries. The CR Program provides increased flexibility for crab fishermen to choose when and where to fish, or whether to lease their crab quota share and fish for species other than crab. The Council and NMFS recognized that the benefits of the CR Program could create incentives for participants to increase their level of participation in groundfish fisheries, especially Pacific cod fisheries in the Central and Western GOA. Participants in the Bering Sea C. opilio (snow) crab fisheries have historically participated in GOA Pacific cod fisheries. Therefore, the CR Program established GOA Pacific cod sideboard limits to prevent increased fishing effort in the GOA Pacific cod fisheries by those receiving Bering Sea snow crab quota share, and to mitigate the potentially adverse impacts of increased fishing effort on participants in the GOA Pacific cod fisheries who did not benefit from the CR Program.

CR Program GOA Pacific cod sideboard limits constrain the harvest of GOA Pacific cod by vessels and holders of license limitation program (LLP) licenses that were used to harvest specific amounts of Pacific cod in the GOA and snow crab in the Bering Sea and Aleutian Islands Management Area. Originally, the CR Program GOA Pacific cod sideboard limits in the Central and Western GOA were calculated using the Pacific cod total allowable catch (TAC) for the Central and Western GOA. With the implementation of Amendment 83 to the Fishery Management Plan for Gulf of Alaska Groundfish in 2012, the CR Program GOA Pacific cod sideboard limits in the Central and Western GOA are calculated using the apportionment of Pacific cod TAC established for specific gear types (e.g., hook-and-line gear, pot gear) and by operation type (i.e., catcher/processor vessels, catcher vessels). CR Program GOA Pacific cod sideboard limits in the Central and Western GOA for vessels using hook-and-line gear and operating as catcher/processors (the hook-and-line catcher/processor sector) are now much smaller than they were prior to Amendment 83. As a result, NMFS prohibits target fishing, commonly known as directed fishing, for Pacific cod in the Central and Western GOA by participants in the hook-and-line catcher/processor sector who are subject to CR Program GOA Pacific cod sideboard limits so that these small sideboard limits are not exceeded.

This proposed action would establish, for a limited period of time, a regulatory process for the removal of the Central and/or the Western CR Program GOA Pacific cod sideboard limits for the hook-and-line catcher/processor sectors. As proposed, Amendment 45 would allow NMFS to permanently remove a CR Program GOA Pacific cod sideboard limit if NMFS receives an affidavit signed by all persons holding LLP licenses with endorsements that permit directed fishing for Pacific cod as a hook-and-line catcher/processor in the Central or Western GOA (i.e., all eligible participants) and stating that all eligible participants in that regulatory area recommend removal of the CR Program GOA Pacific cod sideboard limit. This proposed action is necessary to provide participants with an opportunity to cooperatively agree to coordinate Pacific cod harvests in a manner that is mutually beneficial to all eligible participants in the Central and Western GOA hook-and-line catcher/processor sectors, thus eliminating the need for the sideboard limits imposed through regulation.

If NMFS receives an affidavit from all eligible participants in the Central GOA, then NMFS would remove the CR Program GOA Pacific cod sideboard limit for the hook-and-line catcher/processor sector in the Central GOA. If NMFS receives an affidavit from all eligible participants in the Western GOA, then NMFS would remove the CR Program GOA Pacific cod sideboard limit for the hook-and-line catcher/processor sector in the Western GOA.

This proposed action would require that eligible participants in each regulatory area submit a completed affidavit no later than 1 year (365 days) following publication in the Federal Register of the final rule implementing Amendment 45, if approved by the Secretary. The Council recommended a 1-year deadline to provide sufficient time to encourage negotiations among eligible participants, while not unduly prolonging the management uncertainty for those participants currently subject to the CR Program GOA Pacific cod sideboard limits and prohibited from targeting Pacific cod in the Central or Western GOA.

If all of the eligible participants are unable or unwilling to agree to the sideboard removal, NMFS would not remove the CR Program GOA Pacific cod sideboard limits and certain hook-and-line catcher/processors would continue to be subject to CR Program GOA Pacific cod sideboard limits. The Council determined that maintaining the CR Program GOA Pacific cod sideboard limits for vessels and any associated LLP licenses is consistent with the CR Program because the sideboard limits continue to provide protections originally intended under the CR Program if agreement cannot be reached among all participants. Removing sideboard limits without coordination and agreement among all eligible participants would increase the likelihood of increased fishing effort (a “race for fish”) among fishery participants and ultimately would not provide long-term management stability. This result would be inconsistent with the purpose and need for this action.

Public comments are solicited on proposed Amendment 45 to the Crab FMP through the end of the comment period (see DATES). NMFS intends to publish in the Federal Register and seek public comment on a proposed rule that would implement Amendment 45, following NMFS' evaluation of the proposed rule under the Magnuson-Stevens Act. Public comments on the proposed rule must be received by the end of the comment period on Amendment 45 to be considered in the approval/disapproval decision on Amendment 45. All comments received by the end of the comment period on Amendment 45, whether specifically directed to the amendment or the proposed rule will be considered in the amendment approval/disapproval decision. Comments received after that date will not be considered in the approval/disapproval decision on the amendment. To be considered, comments must be received, not just postmarked or otherwise transmitted, by the last day of the comment period.

Authority: 16 U.S.C. 1801 et seq.

Dated: January 27, 2015.
Emily H. Menashes,
Acting Director, Office of Sustainable Fisheries, National Marine Fisheries Service.

[FR Doc. 2015-01842 Filed 1-30-15; 8:45 am]

BILLING CODE 3510-22-P